DEPARTMENT OF COMMERCE

National Oceanic and Atmospheric Administration

RIN 0648-XH58

Pacific Halibut Fishery; Guideline Harvest Levels for the Guided Recreational Halibut Fishery; Correction

AGENCY: National Marine Fisheries Service (NMFS), National Oceanic and Atmospheric Administration (NOAA), Commerce.

ACTION: Notice; correction.

SUMMARY: NMFS published a notice of Pacific halibut guideline harvest levels (GHLs) for the guided sport charter vessel fishery in the International Pacific Halibut Commission regulatory areas 2C and 3A in the Federal Register on February 5, 2008 (73 FR 6709). This notice contained an incorrect metric conversion for the Area 2C GHL.

FOR FURTHER INFORMATION CONTACT: Julie Scheurer, (907) 586-7356, or email at julie.scheurer@noaa.gov.

Correction

In the Federal Register of February 5, 2008 (73 FR 6709), on page 6710, in the first column, second paragraph, correct the fourth sentence to read:

The corresponding GHLs are 931,000 lb (422.3 mt) in Area 2C, and 3,650,000 lb (1,655.6 mt) in Area 3A.

Dated: April 28, 2008.
Emily H. Menashes
Acting Director, Office of Sustainable Fisheries , National Marine Fisheries Service.

[FR Doc. E8-9869 Filed 5-5-08; 8:45 am]

BILLING CODE 3510-22-S